DEPARTMENT OF DEFENSE

Office of the Secretary

Submission for OMB review; comment request

ACTION: Notice.

The Department of Defense has submitted to OMB for clearance, the following proposal for collection of information under the provisions of the Paperwork Reduction Act (44 U.S.C. Chapter 35).

DATES: Consideration will be given to all comments received by August 5, 2005.

Title and OMB Number: Commissary Evaluation and Utility Surveys—Generic; OMB Number 0704-0407.

Type of Request: Extension.

Number of Respondents: 6,633.

Responses Per Respondent: 1.

Annual Responses: 6,633.

Average Burden Per Response: 1.34 minutes (average).

Annual Burden Hours: 148.

Needs and Uses: The Defense Commissary Agency (DeCA) will conduct a variety of one-time surveys to include customer satisfaction and preference surveys on various services and processes within the commissary system. The survey population will include, but is not limited to, persons eligible to use the commissary throughout the world. The information collected will be used to support or assess: (1) Commissary renovation and new construction, (2) commissary site decisions, (3) impact to commissaries that are near a closing commissary or a commissary that is undergoing some other kind of transformation, (4) processes within the commissaries, (5) commissary patrons perception of savings compared to local commercial supermarkets, and (6) demographic mark-up of commissary users.

Affected Public: Individuals or households; business or other for-profit.

Frequency: On occasion.

Respondent's Obligation: Voluntary.

OMB Desk Officer: Mr. Lewis Oleinick. Written comments and recommendations on the proposed information collection should be sent to Mr. Oleinick at the Office of Management and Budget, Desk Officer for DoD, Room 10236, New Executive Office Building, Washington, DC 20503.

DOD Clearance Officer: Ms. Patricia Toppings. Written requests for copies of the information collection proposal should be sent to Ms. Toppings, WHS/ESD/Information Management Division, 1225 South Clark Street, Suite 504, Arlington, VA 22202-4326.

Dated: June 27, 2005.
Patricia L. Toppings,
Alternate OSD Federal Register, Liaison Officer, Department of Defense.

[FR Doc. 05-13191 Filed 7-5-05; 8:45 am]

BILLING CODE 5001-06-M